ENVIRONMENTAL PROTECTION AGENCY

40 CFR Part 52

[EPA-R09-OAR-2009-0435; FRL-8976-1]

Approval and Promulgation of Implementation Plans; Corrections to the Arizona and Nevada State Implementation Plans; Withdrawal of Direct Final Rule

AGENCY: Environmental Protection Agency (EPA).

ACTION: Withdrawal of direct final rule.

SUMMARY: On October 8, 2009 (74 FR 51795), EPA published a direct final rule deleting certain statutes and rules that were erroneously approved by EPA under the Clean Air Act as part of the Arizona and Nevada state implementation plans. EPA is withdrawing this previously published rule, and in this Federal Register, we are publishing a direct final rule that replaces the October 8, 2009, direct final rule.

DATES: The direct final rule published on October 8, 2009 (74 FR 51795) is withdrawn as of November 3, 2009.

FOR FURTHER INFORMATION CONTACT: Cynthia Allen, EPA Region IX, (415) 947-4120, allen.cynthia@epa.gov.

SUPPLEMENTARY INFORMATION: On October 8, 2009 (74 FR 51795), EPA published a direct final rule deleting certain statutes and rules that were erroneously approved by EPA under the Clean Air Act as part of the Arizona and Nevada state implementation plans. The statutes and rules that EPA was deleting relate to general declarations of policy, advisory committees, variances, and incidental fees and nuisance odors. Due to a clerical error, the direct final rule that was published on October 8, 2009, was inconsistent with the signed document. Consequently, we are withdrawing the direct final rule published on October 8, 2009, and in this Federal Register, we are publishing the direct final rule as originally signed. The direct final rule being published in this Federal Register replaces the following direct final rule published on October 8, 2009:

Title: Approval and Promulgation of Implementation Plans; Corrections to the Arizona and Nevada State Implementation Plans (Direct final rule, 74 FR 51795, October 8, 2009, EPA-R09-OAR-2009-0435).

List of Subjects in 40 CFR Part 52

Environmental protection, Air pollution control, Incorporation by reference, Intergovernmental relations, Reporting and recordkeeping requirements.

Dated: October 19, 2009.
Nancy Lindsay,
Acting Regional Administrator, Region IX.

[FR Doc. E9-26328 Filed 11-2-09; 8:45 am]

BILLING CODE 6560-50-P